NUCLEAR REGULATORY COMMISSION

Notice of Correction to Biweekly Notice of Applications and Amendments to Facility Operating Licenses Involving No Significant Hazards Considerations

On September 20, 2000, the Federal Register published the Biweekly Notice of Applications and Amendments to Facility Operating Licenses Involving No Significant Hazards Consideration. On page 56958, column 1, delete notices beginning with Commonwealth Edison Company and ending on page 56959, column 3, with the FirstEnergy Nuclear Operating Company notice. These notices are duplicates of those that correctly appear under the heading Notice of Issuance of Amendments to Facility Operating Licenses.

Dated at Rockville, Maryland, this 20th day of September 2000.
For the Nuclear Regulatory Commission.
John A. Zwolinski,
Director, Division of Licensing Project Management, Office of Nuclear Reactor Regulation.

[FR Doc. 00-24665 Filed 9-25-00; 8:45 am]

BILLING CODE 7590-01-P